DEPARTMENT OF COMMERCE

National Institute of Standards and Technology

Malcolm Baldrige National Quality Award Board of Overseers and Panel of Judges

AGENCY: National Institute of Standards and Technology, Department of Commerce.

ACTION: Notice of public meeting.

SUMMARY: The Malcolm Baldrige National Quality Award Board of Overseers and Panel of Judges will hold a meeting on Thursday, June 14, 2012 from 8:30 a.m. to 3:00 p.m. Eastern time. The purpose of this meeting is to discuss and review information received from the National Institute of Standards and Technology and from the Chair of the Judges Panel of the Malcolm Baldrige National Quality Award. The agenda will include: Baldrige Program Update, Baldrige Enterprise Update, Judges Panel Update, Baldrige Fellows Program Discussion, and Strategic Planning.

DATES: The meeting will convene on Thursday, June 14, 2012, at 8:30 a.m. Eastern time and adjourn at 3:00 p.m. Eastern time. The meeting will be open to the public.

ADDRESSES: The meeting will be held at the National Institute of Standards and Technology, Administration Building, Lecture Room E, Gaithersburg, Maryland 20899. Please note admittance instructions under the SUPPLEMENTARY INFORMATION section of this notice.

FOR FURTHER INFORMATION CONTACT: Dr. Harry Hertz, Director, Baldrige Performance Excellence Program, National Institute of Standards and Technology, Gaithersburg, Maryland 20899, telephone number (301) 975-2361.

SUPPLEMENTARY INFORMATION: Pursuant to the Federal Advisory Committee Act, 5 U.S.C. app., notice is hereby given that there will be a meeting of the Board of Overseers of the Malcolm Baldrige National Quality Award on Thursday, June 14, 2012. The Board of Overseers is composed of 12 members prominent in the fields of quality, innovation, and performance management and appointed by the Secretary of Commerce, assembled to advise the Director of NIST on the conduct of the Baldrige Award. The Panel of Judges consists of twelve members with balanced representation from U.S. service, manufacturing, education, and health care industries and government. The panel includes members familiar with the quality improvement operations of both for-profit and not-for-profit organizations. The panel recommends Award recipients to the Secretary of Commerce.

All visitors to the National Institute of Standards and Technology site will have to pre-register to be admitted. Please submit your name, time of arrival, email address and phone number to Robert Fangmeyer no later than 4 p.m. Eastern time, Thursday, June 7, 2012, and he will provide you with instructions for admittance. Non-U.S. citizens must also submit their passport number, country of citizenship, title, employer/sponsor, address and telephone. Mr. Fangmeyer's email address is robert.fangmeyer@nist.gov and his phone number is (301) 975-2361.

Dated: April 24, 2012.
Phillip Singerman,
Associate Director for Innovation & Industry Services.

[FR Doc. 2012-10439 Filed 4-30-12; 8:45 am]

BILLING CODE 3510-13-P